DEPARTMENT OF HEALTH AND HUMAN SERVICES

Centers for Disease Control and Prevention

[30 Day-07-0128]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Congenital Syphilis (CS) Case Investigation and Report Form (CDC73.126)—OMB No. 0920-0128—Extension—National Center for HIV/AIDS, Viral Hepatitis, STD, and TB Prevention (NCHHSTP), Coordinating Center for Infectious Diseases (CCID), Centers for Disease Control and Prevention (CDC).

Background and Brief Description

CDC proposes to continue data collection for congenital syphilis case investigations under the “Congenital Syphilis (CS) Case Investigation and Report Form” (CDC73.126, REV 10-2003). This form is currently approved under OMB No. 0920-0128, and is due to expire on 12/31/2006. This request is for a 3-year extension of OMB approval.

Reducing congenital syphilis is a national objective in the DHHS Report entitled Healthy People 2010 (Vol. I and II). Objective 25-9 of this document states the goal: “Reduce congenital syphilis to 1 new case per 100,000 live births”. In order to meet this national objective, an effective surveillance system for congenital syphilis must be continued to monitor current levels of disease and progress towards the year 2010 objective. This data will also be used to develop intervention strategies and to evaluate ongoing control efforts.

Respondent burden is approximately 15 minutes per response for those who provide data electronically and 30 minutes per response for those who provide data via hard copy. The estimated annual number of cases expected to be reported using the current case definition is approximately 500. There are no costs to the respondents other than their time. The total estimated annual burden hours are 160.

Estimated Annualized Burden Hours
Respondents | Number of respondents | Average number of responses per respondent | Average burden per response (in hours) | Total burden (in hours)
Clerical and hospital staff of state and local health department STD project areas | 50 (electronic data) | 8 | 15/60 | 100
| 15 (hardcopy data) | 8 | 30/60 | 60

Dated: December 7, 2006.
Joan F. Karr,
Acting Reports Clearance Officer, Centers for Disease Control and Prevention.

[FR Doc. E6-21273 Filed 12-13-06; 8:45 am]

BILLING CODE 4163-18-P